DEPARTMENT OF COMMERCE

International Trade Administration

[A-520-804]

Certain Steel Nails From the United Arab Emirates: Final Results of Antidumping Duty Administrative Review and Final Determination of No Shipments; 2015-2016

AGENCY: Enforcement and Compliance, International Trade Administration, Department of Commerce.

SUMMARY: The Department of Commerce (Department) determines that certain steel nails (nails) from the United Arab Emirates (UAE) are being sold in the United States at less than fair value (LTFV). The period of review (POR) is May 1, 2015, through April 30, 2016.

DATES: Effective September 14, 2017.

FOR FURTHER INFORMATION CONTACT: Susan Pulongbarit or Annathea Cook, AD/CVD Operations, Office V, Enforcement and Compliance, International Trade Administration, U.S. Department of Commerce, 1401 Constitution Avenue NW., Washington, DC 20230; telephone: (202) 482-4031 or (202) 482-0250, respectively.

SUPPLEMENTARY INFORMATION:

Background

On May 31, 2017, the Department of Commerce (the Department) published the Preliminary Results of this antidumping duty administrative review of the antidumping order on nails from the UAE.¹ We invited parties to submit comments on the Preliminary Results, but we received no comments. The Department conducted this administrative review in accordance with section 751 of the Tariff Act of 1930, as amended (the Act).

¹ See Certain Steel Nails from the United Arab Emirates: Preliminary Results of Antidumping Duty Administrative Review; 2015-2016, 82 FR 24941 (May 31, 2017) and accompanying Preliminary Decision Memorandum (Preliminary Decision Memorandum) (Preliminary Results).

Scope of the Order

The merchandise subject to the order is certain steel nails. The product is currently classified under Harmonized Tariff Schedule of the United States (HTSUS) 7317.00.55, 7317.00.65, and 7317.00.75. Although the HTSUS numbers are provided for convenience and customs purposes, the written description of the scope of the order remains dispositive.²

² For a complete description of the scope of this review, see Preliminary Results.

Analysis of Comments Received

As noted above, we have received no comments regarding the Preliminary Results.

Determination of No Shipments

As noted in the Preliminary Results, we received no shipment claims from two companies subject to this administrative review: Oman Fasteners LLC (Oman Fasteners) and Overseas International Steel Industry LLC (OISI). In the Preliminary Results, we preliminarily determined that these companies had no shipments of subject merchandise during the POR.³ We received no comments from interested parties with respect to these claims. Therefore, because the record indicates that these companies did not export subject merchandise to the United States during the POR, we continue to find that Oman Fasteners and OISI had no shipments of subject merchandise during the POR.

³ See Preliminary Results at 82 FR 24942.

Changes Since the Preliminary Results

As no parties submitted comments on the Preliminary Results, the Department has not modified its analysis from that presented in the Preliminary Results, and no decision memorandum accompanies this Federal Register notice. Further, the Department has made no adjustments to the determination that Overseas Distribution Services (ODS) did not cooperate to the best of its abilities to comply with the Department's request for information. Accordingly, we continue to determine it appropriate to apply facts otherwise available with adverse inferences in accordance with sections 776(a) and (b) of the Act. For details regarding the issues raised in this proceeding, including the Department's determination to apply adverse facts available to ODS, see the Preliminary Results.⁴

⁴ Id.

Final Results

The final weighted-average dumping margins are as follows:

Exporter/producer | Weighted- average dumping margin (percent)
Overseas Distribution Services Inc | 184.41

Assessment Rates

Pursuant to section 751(a)(2)(C) of the Act, and 19 CFR 351.212(b), the Department has determined, and U.S. Customs and Border Protection (CBP) shall assess, antidumping duties on all appropriate entries of subject merchandise and deposits of estimated duties, where applicable, in accordance with the final results of this review. The Department intends to issue appropriate assessment instructions directly to CBP 15 days after publication of the final results of this administrative review.

For ODS, we will base the assessment rate for the corresponding entries on the margin listed above. Additionally, because the Department determined that Oman Fasteners and OISI had no shipments of merchandise during the POR, any suspended entries that entered under their name will be liquidated at the all-others rate effective during the POR.⁵

⁵ Id. at 24943.

Cash Deposit Requirements

The following cash deposit requirements will be effective for all shipments of subject merchandise entered, or withdrawn from warehouse, for consumption on or after the publication date of the final results of this administrative review, as provided by section 751(a)(2)(C) of the Act: (1) The cash deposit rates for the reviewed companies will be the rates shown above; (2) for previously reviewed or investigated companies not listed above, as well as those companies listed in the “Determination of No Shipments” section, the cash deposit rate will continue to be the company-specific rate published for the most recently-completed segment; (3) if the exporter is not a firm covered in this review, a previous review, or the original less-than-fair value investigation, but the manufacturer is, the cash deposit rate will be the rate established for the most recent period for the manufacturer of the merchandise; and (4) the cash deposit rate for all other manufacturers or exporters will continue to be 4.30 percent, the all-others rate established in the investigation.⁶ These deposit requirements, when imposed, shall remain in effect until further notice.

⁶ See Certain Steel Nails from the United Arab Emirates: Final Determination of Sales at Less Than Fair Value, 77 FR 17029 (March 23, 2012).

Disclosure

Normally, the Department discloses to interested parties the calculations performed in connection with the final results within five days of its public announcement, or if there is no public announcement, within five days of the date of publication of this notice in accordance with 19 CFR 351.224(b). However, because the weighted-average dumping margin assigned to ODS for these final results is based on adverse facts available, there are no calculations to disclose.

Notification to Importers

This notice also serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Administrative Protective Order

This notice also serves as a reminder to parties subject to administrative protective order (APO) of their responsibility concerning the return or destruction of proprietary information disclosed under the APO in accordance with 19 CFR 351.305(a)(3), which continues to govern business proprietary information in this segment of the proceeding. Timely written notification of the return or destruction of APO materials or conversion to judicial protective order is hereby requested. Failure to comply with the regulations and the terms of an APO is a violation subject to sanction.

Notification to Interested Parties

These final results are in accordance with sections 751(a)(a) and 777(i)(1) of the act and 19 CFR 351.213(h) and 351.221(b)(5).

Dated: September 7, 2017.
Gary Taverman,
Deputy Assistant Secretary for Antidumping and Countervailing Duty Operations, performing the non-exclusive functions and duties for the Assistant Secretary for Enforcement and Compliance.

[FR Doc. 2017-19531 Filed 9-13-17; 8:45 am]

BILLING CODE 3510-DS-P